DEPARTMENT OF AGRICULTURE

Food and Nutrition Service

Agency Information Collection Activities: Disaster Supplemental Nutrition Assistance Program (D-SNAP)

AGENCY: Food and Nutrition Service (FNS), USDA.

ACTION: Notice.

SUMMARY: In accordance with the Paperwork Reduction Act of 1995, this notice invites the general public and other public agencies to comment on this proposed information collection. This collection is an extension, with change, of a currently approved collection. This information collection is associated with waiver request and reporting by State agencies to operate a Disaster Supplemental Nutrition Assistance Program (D-SNAP) to temporarily provide food assistance to households following a disaster.

DATES: Written comments must be received on or before July 28, 2025.

ADDRESSES: Comments may be sent to: Sasha Gersten-Paal, Director, Program Development Division, Food and Nutrition Service, U.S. Department of Agriculture, 1320 Braddock Place, 5th Floor, Alexandria, VA 22314. Comments may also be submitted via fax to the attention of Sasha Gersten-Paal at 703-305-2507 or via email to sasha.gersten-paal@usda.gov. Comments will also be accepted through the Federal eRulemaking Portal. Go to https://www.regulations.gov, and follow the online instructions for submitting comments electronically. All responses to this notice will be summarized and included in the request for Office of Management and Budget approval. All comments will be a matter of public record.

FOR FURTHER INFORMATION CONTACT: Requests for additional information or copies of this information collection should be directed to Sasha Gersten-Paal at 703-305-2507.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Disaster Supplemental Nutrition Assistance Program (D-SNAP).

Form Number: N/A.

OMB Control Number: 0584-0336.

Expiration Date: November 30, 2025.

Type of Request: Extension, with change, of a previously approved collection.

Abstract: Pursuant to section 412 of the Robert T. Stafford Disaster Relief and Emergency Assistance Act (42 U.S.C. 5179) and section 5(h)(1) of the Food and Nutrition Act of 2008 (7 U.S.C. 2014(h)), the Secretary of Agriculture has the authority to establish a Disaster Supplemental Nutrition Assistance Program (D-SNAP), which is a temporary program that State agencies may operate to provide food assistance to households affected by a disaster. D-SNAP is separate and distinct from the Supplemental Nutrition Assistance Program (SNAP) because it has different standards of eligibility, is operated for a limited duration, and only provides one month of benefits to eligible households.

State agencies submit formal waiver requests to operate D-SNAP to the Food and Nutrition Service (FNS) for approval and may only request to operate D-SNAP in areas that have received a Presidential major disaster declaration with authorization for Individual Assistance, also known as an IA declaration. For a major disaster declaration, the Federal Emergency Management Agency (FEMA) Regional Office deploys staff to conduct joint Preliminary Damage Assessments (PDAs) in conjunction with State, local, Tribal Nation, and/or territory representatives. The Governor or Tribal Executive then submits a declaration request. FEMA submits a recommendation to the President regarding the declaration request and the final determinations are at the sole discretion of the President.

In their D-SNAP waiver requests, State agencies outline the impact of the disaster on households and/or businesses, the proposed procedures for conducting D-SNAP, designate the areas where they wish to operate, and provide estimates of benefit issuance. Using clearly defined criteria, FNS created a waiver template for State agencies to submit their D-SNAP requests electronically through the FNS Waiver Information Management System (WIMS).

Once an initial waiver request to operate D-SNAP is approved by FNS, State agencies will submit any subsequent request to modify or extend operations to eligible areas to FNS for approval. These modification or extension requests are typically used when a disaster impacts different areas of a State in different ways or at different times. Subsequent modification and extension requests require substantially less time to prepare than the initial D-SNAP waiver request. These requests are submitted electronically through WIMS.

Along with the waiver request to operate D-SNAP in areas that have received an IA declaration, FNS asks that the State agency submit a sample of their D-SNAP application for households applying for assistance. Per FNS D-SNAP guidance, this application should include information about the head of household, the impact of the disaster on the household, household members, household income and resources, a penalty warning, and USDA's nondiscrimination statement. FNS provides State agencies with a sample application in the D-SNAP Toolkit. State agencies submit their sample application electronically through WIMS.

Additionally, before a State agency operates a D-SNAP, FNS asks the State agency to provide a draft of their press release for FNS to review. State agencies are expected to issue a press release to publicize the application period to households impacted by the disaster that may need assistance. FNS asks State agencies to issue their press release at least several days before the application period for D-SNAP opens to the public. Per D-SNAP Guidance, the press release should include information about the operation such as the counties or ZIP Codes approved for assistance, application dates, application sites and hours of operation, and other information that potential applicants may need. FNS provides State agencies with an example press release in the D-SNAP Toolkit. The draft press release is submitted by State agencies electronically through WIMS.

During the application period for a D-SNAP, State agencies submit daily data reports to FNS. Daily reports ensure that FNS can monitor State agency capacity and benefit issuance to maintain a high level of customer service and integrity in D-SNAP operations. The reporting template includes data such as the number of new applications taken, the number of applications approved and denied, the amount of benefits issued, the number of pending applications, the number of supplements approved, and the amount of supplements issued. For operations containing a virtual component, the daily report also captures telephonic operation and card issuance data. FNS provides State agencies with a daily report template to provide this data to the agency. State agencies submit daily data reports electronically through WIMS.

Six months after the closing date of the D-SNAP application period, State agencies will submit a post disaster report to FNS. The post disaster report ensures that FNS understands all aspects of the D-SNAP operation and can identify opportunities for improvement. The report template asks that State agencies summarize the impact of the disaster, detail the D-SNAP operation and procedures utilized, provide case review results, and reflect on changes that could be considered in the future. FNS provides State agencies with a post disaster report template to provide this information to the agency. State agencies submit post-disaster review reports electronically through WIMS.

This information collection request contains only burden estimates associated with the State agency's waiver request and some reporting for D-SNAP operations. All burden imposed on State agencies and households associated with the certification of D-SNAP households performed by State agencies is approved under OMB Control Number 0584-0064 (SNAP Forms: Applications, Periodic Reporting, Notices; expiration date: 05/31/2026).

Burden for the remainder of State reporting of D-SNAP data on the FNS-292B (Report of Disaster Supplemental Nutrition Assistance Benefit Issuance) is approved under two separate OMB Control Numbers. The recordkeeping burden for FNS-292B is approved under OMB Control Number 0584-0037 (expiration date: 9/30/2026), and the reporting burden for FNS-292B is approved under OMB Control Number 0584-0594 (Food Programs Reporting System; expiration date: 3/31/2025). None of the burden activities for the other approved OMB control numbers cited in this notice have been outlined in this submission.

Because it is impossible to predict the number of natural disasters and extreme weather events that result in an IA declaration in a given year, and because some State agencies may find that operation of a D-SNAP is not warranted even upon receipt of an IA declaration, FNS is revising the burden estimate for submitting a waiver request to operate D-SNAP based on the annual average number of formal D-SNAP waiver requests submitted and approved since this collection was last approved. From Federal Fiscal Year 2022 to 2024, an average of 9 State agencies requested to operate D-SNAP each year and an average of 4 State agencies requested to modify and/or extend. The number of hours per response has not changed for submitting a waiver request, but the estimated total burden hours has increased due to the higher number of State agency requests.

FNS is adding several reporting activities by State agencies to this information collection that have not been captured by previous submissions. State agency administration of D-SNAP has evolved over time and FNS is seeking to ensure that we are accounting for the full amount of burden hours. Including the additional burden hours by State agencies via the submission of the sample application, draft press release, daily reports, and the post disaster report accurately captures the information collection burden of administering D-SNAP.

Summary of Burden Hours

Reporting

Affected Public: State, local, Tribal Nation, territory agency or government.

Estimated Number of Respondents: 49. An average of 9 State agencies submit D-SNAP waiver requests each year, and out of those original 9 State agencies, an average of 4 State agencies will submit subsequent waiver requests to modify or extend those already approved D-SNAPs. Each new D-SNAP waiver request includes submitting a sample application and draft press release. Additionally, daily reports are submitted each day that the D-SNAP application period is open, and the post disaster report is submitted several months later. This is an increase from the previously approved information collection as there has been a steady increase in the number of disasters occurring throughout the country since the previous information collection was approved and additional activities have been added to more accurately capture the burden of administering D-SNAP.

Estimated Number of Responses per Respondent: 30. State agencies submit an average of 2 D-SNAP waiver requests per year and an average of 2 subsequent modification or extension requests per year. This represents an increase from the previous information collection due to the addition of the sample application, draft press release, daily reports, and post disaster report.

Estimated Total Annual Responses: 260. This represents an increase from the previous information collection due to the increasing number of State agencies experiencing disasters and subsequently requesting to operate D-SNAP and the addition of the sample application, draft press release, daily reports, and post disaster report.

Estimated Time per Response: 27. Approximately 10 hours for State agency D-SNAP waiver requests, 3 hours for each subsequent modification or extension request, 1 hour for a sample application, 2 hours for a draft press release, 1 hour for a daily report, and 10 hours for a post disaster report. This is an increase from the previous information collection due to the addition of the sample application, draft press release, daily reports, and post disaster report.

Estimated Total Annual Burden on Respondents: 618. This is an increase from the previous information collection due to the addition of the sample application, draft press release, daily reports, and post disaster report.

Respondent | Estimated number of respondents | Responses annual per respondent | Total annual responses | Estimated avg. number of hours per response | Estimated total hours
State agency—Submission of D-SNAP Waiver Request | 9 | 2 | 18 | 10 | 180
State agency—Submission of D-SNAP modification or extension request | 4 | 2 | 8 | 3 | 24
State agency—Submission of sample application | 9 | 2 | 18 | 1 | 18
State agency—Submission of draft press release | 9 | 2 | 18 | 2 | 36
State agency—Submission of daily reports | 9 | 20 | 180 | 1 | 180
State agency—Submission of post disaster Report | 9 | 2 | 18 | 10 | 180
Total Reporting Burden | 49 | 30 | 260 | 27 | 618

James C. Miller,
Administrator, Food and Nutrition Service.

[FR Doc. 2025-09645 Filed 5-28-25; 8:45 am]

BILLING CODE 3410-30-P